DEPARTMENT OF STATE

[Public Notice: 12704]

Bureau of Political-Military Affairs, Directorate of Defense Trade Controls: Notifications to the Congress of Proposed Commercial Export Licenses

SUMMARY: The Directorate of Defense Trade Controls and the Department of State give notice that the attached Notifications of Proposed Commercial Export Licenses were submitted to Congress on the dates indicated.

DATES: The dates of notification to Congress are as shown on each of the 28 Letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner.

The following comprise recent such notifications and are published to give notice to the public.

July 9, 2024

Congressional Notification Transmittal Letter

Please find enclosed the following notification from the Department of State.

Department Notification Number: DDTC 23-069.

Pursuant to Section 36(c) of the Arms Export Control Act, please find enclosed a certification of a proposed license amendment for the export of defense articles, including technical data, and defense services in the amount of $50,000,000 or more.

The transaction contained in the attached certification involves the export of defense articles, including technical data, and defense services to the UK for the manufacture of a precision guided munition system.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

July 9, 2024

Congressional Notification Transmittal Letter

Please find enclosed the following notification from the Department of State.

Department Notification Number: DDTC 23-074.

Pursuant to Sections 36(c) and 36(d) of the Arms Export Control Act, please find enclosed a certification of a proposed amendment for the export of defense articles, including technical data, and defense services in the amount of $1,000,000 or more and the manufacture of significant military equipment abroad.

The transaction contained in the attached certification involves the export of defense articles, including technical data, and defense services to Israel to support the manufacture of rifle, machine gun, and remote weapon system parts.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

July 9, 2024

Congressional Notification Transmittal Letter

Please find enclosed the following notification from the Department of State.

Department Notification Number: DDTC 23-103.

Pursuant to Section 36(c) of the Arms Export Control Act, please find enclosed a certification of a proposed license for the export of firearms, parts, and components controlled under Category I of the U.S. Munitions List in the amount of $1,000,000 or more.

The transaction contained in the attached certification involves the export of .50 caliber and 7.62mm machine guns to Qatar.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

July 9, 2024

Congressional Notification Transmittal Letter

Please find enclosed the following notification from the Department of State.

Department Notification Number: DDTC 23-104.

Pursuant to Section 36(c) of the Arms Export Control Act, please find enclosed a certification of a proposed license amendment for the export of defense articles, including technical data, and defense services in the amount of $50,000,000 or more.

The transaction contained in the attached certification involves the export of defense articles, including technical data, and defense services to Bahrain, Kuwait, Oman, Qatar, Saudi Arabia, and the UAE to support the integration, installation, operation, training, testing, maintenance, and repair of a command-and-control system.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

July 9, 2024

Congressional Notification Transmittal Letter

Please find enclosed the following notification from the Department of State.

Department Notification Number: DDTC 24-006.

Pursuant to Section 36(c) of the Arms Export Control Act, please find enclosed a certification of a proposed license for the export of defense articles, including technical data, and defense services in the amount of $50,000,000 or more.

The transaction contained in the attached certification involves the export of defense articles, including technical data, and defense services to Singapore to support the integration, installation, maintenance, and sustainment of navigation systems for aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relation

Sincerely,

Philip G. Laidlaw,

Principal Deputy Assistant Secretary, Bureau of Legislative Affairs.

July 9, 2024

Congressional Notification Transmittal Letter

Please find enclosed the following notification from the Department of State.

Department Notification Number: DDTC 24-008.

Pursuant to Section 36(c) of the Arms Export Control Act, please find enclosed a certification of a proposed license for the export of firearms, parts, and components controlled under Category I of the U.S. Munitions List in the amount of $1,000,000 or more.

The transaction contained in the attached certification involves the export of 7.62mm light machine guns and suppressors to Israel.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

July 23, 2024

Congressional Notification Transmittal Letter

Please find enclosed the following notification from the Department of State.

Department Notification Number: DDTC 23-091.

Pursuant to Section 36(c) of the Arms Export Control Act, please find enclosed a certification of a proposed license for the export of defense articles, including technical data, and defense services in the amount of $100,000,000 or more.

The transaction contained in the attached certification involves the export of defense articles, including technical data, and defense services to Türkiye and the UK to support the manufacture, assembly, maintenance, testing, procurement, delivery, and repair of Missile Control Actuator Sections.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC-24-015.

Pursuant to Section 36(c) of the Arms Export Control Act, please find enclosed a certification of a proposed license for the export of defense articles, including technical data, and defense services in the amount of $100,000,000 or more.

The transaction contained in the attached certification involves the export of defense articles, including technical data, and defense services to Germany to support the design, development, assembly, engineering, integration, operation, modification, test, analysis, qualification, repair and rework, training, and manufacture of missile cryogenic coolers and expander assemblies.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-017.

Pursuant to Sections 36(c) and 36(d) of the Arms Export Control Act, please find enclosed a certification of a proposed license amendment for the export of defense articles, including technical data, and defense services in the amount of $50,000,000 or more and the manufacture of significant military equipment abroad.

The transaction contained in the attached certification involves the export of defense articles, including technical data, and defense services to Bahrain, Belgium, Chile, Denmark, Egypt, Greece, Iraq, Israel, Italy, Jordan, Morocco, Netherlands, Norway, Oman, Pakistan, Poland, Portugal, Singapore, Republic of Korea, Taiwan, Türkiye, the United Arab Emirates, and the United States to support the manufacture of fighter aircraft components, parts, and related equipment.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-025.

Pursuant to Section 36(d) of the Arms Export Control Act, please find enclosed a certification of a proposed license for the export of defense articles, including technical data, and defense services for the manufacture of significant military equipment abroad.

The transaction contained in the attached certification involves the export of defense articles, including technical data, and defense services to Poland and the UK to support the production, assembly, disassembly, final assembly, repair, test verification, maintenance, sustainment, and environmental stress screening of missile control sections and motors.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-028.

Pursuant to Section 36(c) of the Arms Export Control Act, please find enclosed a certification of a proposed license for the export of firearms, parts, and components controlled under Category I of the U.S. Munitions List in the amount of $1,000,000 or more.

The transaction contained in the attached certification involves the export of 5.56mm carbines and related parts to Kosovo.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-032.

Pursuant to Sections 36(c) and 36(d) of the Arms Export Control Act, please find enclosed a certification of a proposed license for the export of defense articles, including technical data, and defense services in the amount of $100,000,000 or more and the manufacture of significant military equipment abroad.

The transaction contained in the attached certification involves the export of defense articles, including technical data, and defense services to Canada to support the manufacture of propulsion system subcomponents for use in naval nuclear reactors in U.S. Naval Surface Vessels and Submersibles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-041.

Pursuant to Section 36(c) of the Arms Export Control Act, please find enclosed a certification of a proposed license for the export of firearms, parts, and components controlled under Category I of the U.S. Munitions List in the amount of $1,000,000 or more.

The transaction contained in the attached certification involves the export of .338 caliber fully automatic machine guns, suppressors, and related parts to Israel.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-044.

Pursuant to Section 36(c) of the Arms Export Control Act, please find enclosed a certification of a proposed license amendment for the export of defense articles, including technical data, and defense services in the amount of $100,000,000 or more.

The transaction contained in the attached certification involves the exchange of defense articles, including technical data, and defense services to Germany and Norway to support the sale, co-production, and assembly of radar systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 6, 2024

Congressional Notification Transmittal Letter

Please find enclosed the following notification from the Department of State.

Department Notification Number: DDTC 24-045.

Pursuant to Section 36(c) of the Arms Export Control Act, please find enclosed a certification of a proposed license for the export of defense articles, including technical data, and defense services in the amount of $50,000,000 or more.

The transaction contained in the attached certification involves the export to Netherlands and Ukraine of individual weapon sights.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

August 8, 2024

Congressional Notification Transmittal Letter

Please find enclosed the following notification from the Department of State.

Department Notification Number: DDTC 23-100.

Pursuant to Section 36(c) of the Arms Export Control Act, please find enclosed a certification of a proposed license amendment for the export of defense articles, including technical data, and defense services in the amount of $100,000,000 or more.

The transaction contained in the attached certification involves the export of defense articles, including technical data, and defense services to Israel of Joint Direct Attack Munition variants and Small Diameter Bomb Increment I variants.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

September 5, 2024

Congressional Notification Transmittal Letter

Please find enclosed the following notification from the Department of State.

Department Notification Number: DDTC 24-030.

Pursuant to Sections 36(c) and 36(d) of the Arms Export Control Act, please find enclosed a certification of a proposed license amendment for the export of defense articles, including technical data, and defense services in the amount of $100,000,000 or more and for the manufacture of significant military equipment abroad.

The transaction contained in the attached certification involves the export of defense articles, including technical data, and defense services to Canada to support the manufacture of optical components and subassemblies for missiles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

September 5, 2024

Congressional Notification Transmittal Letter

Please find enclosed the following notification from the Department of State.

Department Notification Number: DDTC 24-039.

Pursuant to Section 36(c) of the Arms Export Control Act, please find enclosed a certification of a proposed license amendment for the export of defense articles, including technical data, and defense services in the amount of $100,000,000 or more.

The transaction contained in the attached certification involves the export of defense articles, including technical data, and defense services to Norway to support the manufacture, production, test, and inspection of vertical tail control surfaces and conventional edges, composite sub-assemblies and structural parts, including skins, covers for the forward fuselage, and associated detail parts of the wing components and auxiliary/associated detail parts for military aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

September 11, 2024

Congressional Notification Transmittal Letter

Please find enclosed the following notification from the Department of State.

Department Notification Number: DDTC 24-058.

Pursuant to Section 36(c) of the Arms Export Control Act, please find enclosed a certification of a proposed license for the export of firearms, parts, and components abroad controlled under Category I of the U.S. Munitions List in the amount of $1,000,000 or more.

The transaction contained in the attached certification involves the export of 5.56mm and 7.62mm sound suppressors to Sweden.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 11, 2024

Congressional Notification Transmittal Letter

Please find enclosed the following notification from the Department of State.

Department Notification Number: DDTC 24-059.

Pursuant to Section 36(c) of the Arms Export Control Act, please find enclosed a certification of a proposed license for the export of firearms, parts, and components abroad controlled under Category I of the U.S. Munitions List in the amount of $1,000,000 or more.

The transaction contained in the attached certification involves the export of 7.62mm fully automatic machine guns and associated barrel assemblies to Ukraine.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 11, 2024

Congressional Notification Transmittal Letter

Please find enclosed the following notification from the Department of State.

Department Notification Number: DDTC 24-065.

Pursuant to Section 36(c) of the Arms Export Control Act, please find enclosed a certification of a proposed license amendment for the export of defense articles, including technical data, and defense services in the amount of $50,000,000 or more.

The transaction contained in the attached certification involves the export of defense articles, including technical data, and defense services to Belgium, Finland, and the UK to support the maintenance, repair, and overhaul of aircraft engines.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 16, 2024

Congressional Notification Transmittal Letter

Please find enclosed the following notification from the Department of State.

Department Notification Number: DDTC 24-038.

Pursuant to Section 36(c) of the Arms Export Control Act, please find enclosed a certification of a proposed license for the export of defense articles, including technical data, and defense services in the amount of $100,000,000 or more.

The transaction contained in the attached certification involves the export of defense articles, including technical data, and defense services to Italy to support analysis of aircraft, avionics, mission systems, modifications, upgrades, maintenance, logistics support programs, support infrastructure, and integration within Italy of commercial aircraft modified for electronic attack.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 16, 2024

Congressional Notification Transmittal Letter

Please find enclosed the following notification from the Department of State.

Department Notification Number: DDTC 24-050.

Pursuant to Section 36(c) of the Arms Export Control Act, please find enclosed a certification of a proposed license for the export of firearms, parts, and components abroad controlled under Category I of the U.S. Munitions List in the amount of $1,000,000 or more.

The transaction contained in the attached certification involves the export of 5.56mm automatic rifles to Ukraine.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 16, 2024

Congressional Notification Transmittal Letter

Please find enclosed the following notification from the Department of State.

Department Notification Number: DDTC 24-057.

Pursuant to Section 36(c) of the Arms Export Control Act, please find enclosed a certification of a proposed agreement amendment for the export of defense articles, including technical data, and defense services in the amount of $100,000,000 or more.

The transaction contained in the attached certification involves the export of defense articles, including technical data, and defense services to Australia related to the upgrade and replacement of tactical radios.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 16, 2024

Congressional Notification Transmittal Letter

Please find enclosed the following notification from the Department of State.

Department Notification Number: DDTC 24-064.

Pursuant to Section 36(c) of the Arms Export Control Act, please find enclosed a certification of a proposed license for the export of firearms, parts, and components controlled under Category I of the U.S. Munitions List in the amount of $1,000,000 or more.

The transaction contained in the attached certification involves the export of 5.56mm, 7.62mm, and .300 caliber fully automatic rifles, suppressors, and related parts to Sweden.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 25, 2024

Congressional Notification Transmittal Letter

Please find enclosed the following notification from the Department of State.

Department Notification Number: DDTC 23-048.

Pursuant to Sections 36(c) and 36(d) of the Arms Export Control Act, please find enclosed a certification of a proposed amendment for the manufacture of significant military equipment abroad and the export of defense articles, including technical data, and defense services in the amount of $50,000,000 or more.

The transaction contained in the attached certification involves the export of defense articles, including technical data, and defense services to the Kingdom of Saudi Arabia and Singapore to support the manufacture of ammunition.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 25, 2024

Congressional Notification Transmittal Letter

Please find enclosed the following notification from the Department of State.

Department Notification Number: DDTC 24-034.

Pursuant to Section 36(c) of the Arms Export Control Act, please find enclosed a certification of a proposed license for the export of firearms, parts, and components controlled under Category I of the U.S. Munitions List in the amount of $1,000,000 or more.

The transaction contained in the attached certification involves the export of 7.62mm fully automatic weapon systems and related parts to Indonesia.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

September 25, 2024

Congressional Notification Transmittal Letter

Please find enclosed the following notification from the Department of State.

Department Notification Number: DDTC 24-035.

Pursuant to Section 36(c) of the Arms Export Control Act, please find enclosed a certification of a proposed license amendment for the export of defense articles, including technical data, and defense services in the amount of $50,000,000 or more.

The transaction contained in the attached certification involves the export of defense articles, including technical data, and defense services to Singapore for the sale, modification, and follow-on support of military aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoglu,

Assistant Secretary, Bureau of Legislative Affairs.

Michael J. Vaccaro,
Deputy Assistant Secretary, Directorate of Defense Trade Controls, Department of State.

[FR Doc. 2025-07337 Filed 4-28-25; 8:45 am]

BILLING CODE 4710-25-P